ENVIRONMENTAL PROTECTION AGENCY

40 CFR Part 194

[FRL-6963-4]

RIN 2060-AG85

Waste Characterization Program Documents Applicable to Transuranic Radioactive Waste From the Rocky Flats Environmental Technology Site for Disposal at the Waste Isolation Pilot Plant

AGENCY: Environmental Protection Agency.

ACTION: Notice of availability; opening of public comment period.

SUMMARY: The Environmental Protection Agency (EPA) is announcing the availability of, and soliciting public comments for 30 days on, Department of Energy (DOE) documents applicable to characterization of transuranic (TRU) radioactive waste at the Rocky Flats Environmental Technology Site (RFETS) proposed for disposal at the Waste Isolation Pilot Plant (WIPP). The documents are available for review in the public dockets listed in ADDRESSES. We will conduct an inspection of waste characterization systems and processes at RFETS to verify that the proposed nondestructive assay processes at RFETS can characterize transuranic waste in accordance with EPA's WIPP compliance criteria. EPA will perform this inspection the week of April 23, 2001.

DATES: EPA is requesting public comment on the document. Comments must be received by EPA's official Air Docket on or before May 7, 2001.

ADDRESSES: Comments should be submitted to: Docket No. A-98-49, Air Docket, Room M-1500 (LE-131), U.S. Environmental Protection Agency, 401 M Street, SW., Washington, DC 20460. The DOE documents are available for review in the official EPA Air Docket in Washington, DC, Docket No. A-98-49, Category II-A2, and at the following three EPA WIPP informational docket locations in New Mexico: in Carlsbad at the Municipal Library, Hours: Monday-Thursday, 10 a.m.-9 p.m., Friday-Saturday, 10 a.m.-6 p.m., and Sunday 1 p.m.-5 p.m.; in Albuquerque at the Government Publications Department, Zimmerman Library, University of New Mexico, Hours: vary by semester; and in Santa Fe at the New Mexico State Library, Hours: Monday-Friday, 9 a.m.-5 p.m.

As provided in EPA's regulations at 40 CFR part 2, and in accordance with normal EPA docket procedures, if copies of any docket materials are requested, a reasonable fee may be charged for photocopying.

FOR FURTHER INFORMATION CONTACT: Scott Monroe, Office of Radiation and Indoor Air, (202) 564-9310, or call EPA's toll-free WIPP Information Line, 1-800-331-WIPP.

SUPPLEMENTARY INFORMATION:

Background

DOE has opened the WIPP near Carlsbad, New Mexico, as a deep geologic repository for disposal of TRU radioactive waste. As defined by the WIPP Land Withdrawal Act (LWA) of 1992 (Public Law 102-579), as amended (Public Law 104-201), TRU waste consists of materials containing elements having atomic numbers greater than 92 (with half-lives greater than twenty years), in concentrations greater than 100 nanocuries of alpha-emitting TRU isotopes per gram of waste. Much of the existing TRU waste consists of items contaminated during the production of nuclear weapons, such as rags, equipment, tools, and sludges.

On May 13, 1998, we announced our final compliance certification decision to the Secretary of Energy (published May 18, 1998, 63 FR 27354). This decision stated that the WIPP will comply with EPA's radioactive waste disposal regulations at 40 CFR part 191, subparts B and C.

The final WIPP certification decision includes conditions that: (1) Prohibit shipment of TRU waste for disposal at WIPP from any site other than the Los Alamos National Laboratory (LANL) until the EPA determines that the site has established and executed a quality assurance program, in accordance with §§ 194.22(a)(2)(i), 194.24(c)(3), and 194.24(c)(5) for waste characterization activities and assumptions (Condition 2 of appendix A to 40 CFR part 194); and (2) prohibit shipment of TRU waste for disposal at WIPP from any site other than LANL until the EPA has approved the procedures developed to comply with the waste characterization requirements of § 194.22(c)(4) (Condition 3 of appendix A to 40 CFR part 194). Our approval process for waste generator sites is described in § 194.8. As part of our decision-making process, the DOE is required to submit to us documents describing the quality assurance and waste characterization programs at each DOE waste generator site seeking approval for shipment of TRU radioactive waste to WIPP. In accordance with § 194.8, we place these documents in the official Air Docket in Washington, DC, and in supplementary dockets in the State of New Mexico, for public review and comment.

EPA approved the required quality assurance program at RFETS in March 1999. EPA also approved certain waste characterization processes at RFETS after several subsequent inspection throughout 1999 and 2000. DOE is proposing to use additional nondestructive assay processes that EPA did not previously inspect at RFETS. EPA will conduct a inspection of RFETS during the week of April 23, 2001, to verify that the proposed processes are effective as part of the system of controls for waste characterization in accordance with 40 CFR 194.24.

We have placed the operating procedures for the proposed nondestructive radioassay equipment in the public docket described in ADDRESSES. The procedures are entitled, “Operating Building 569 Drum Tomographic Gamma Scanner, PRO-1007-TGS-569-02, Rev. 0, 3/9/01,” “Operating Building 569 Passive/Active Drum Counter, PRO-666-PADC569, Rev. 1, 2/23/01,” “Operating Building 569 FRAM Gamma Spectroscopy System, PRO-1092-FRAM-569, Rev 1, 3/9/01,” and “Operating the Super High Efficiency Neutron Coincidence (SuperHENC) Counter Mobile Assay System, PRO-957-SuperHENC, Revision 3, 2/23/01.” In accordance with 40 CFR 194.8, as amended by the final certification decision, we are providing the public 30 days to comment on these documents.

If we determine as a result of the inspection that the proposed processes at RFETS adequately control the characterization of transuranic waste, we will notify DOE by letter and place the letter in the official Air Docket in Washington, DC, as well as in the three duplicate dockets in New Mexico. A letter of approval will allow the DOE to ship from RFETS the TRU waste that may be characterized using the approved processes. We will not make a determination of compliance prior to the inspection or before the 30-day comment period has closed.

Information on the certification decision is filed in the official EPA Air Docket, Docket No. A-93-02 and is available for review in Washington, DC, and at three EPA WIPP informational docket locations in New Mexico. The dockets in New Mexico contain only major items from the official Air Docket in Washington, DC, plus those documents added to the official Air Docket since the October 1992 enactment of the WIPP LWA.

Dated: March 30, 2001.
Robert D. Brenner,
Acting Assistant Administrator for Air and Radiation.

[FR Doc. 01-8492 Filed 4-4-01; 8:45 am]

BILLING CODE 6560-50-P